DEPARTMENT OF JUSTICE

Notice of Lodging of Proposed Consent Decree Under the Clean Water Act

Notice is hereby given that, for a period of 30 days, the United States will receive public comments on a proposed Consent Decree in United States and State of Arkansas v. ExxonMobil Pipeline Company and Mobil Pipe Line Company (Civil Action No. 4:13-cv-0355), which was lodged with the United States District Court for the Eastern District of Arkansas on April 22, 2015.

This case concerns a March 2013 oil spill from the Pegasus Pipeline, which is a crude oil pipeline owned and operated by the defendants (collectively, “ExxonMobil”). The spill occurred after the pipeline ruptured in the town of Mayflower, Arkansas, sending several thousand barrels of oil through a neighborhood, creek, wetlands, and a cove of Lake Conway. A Complaint in this case was filed jointly by the United States and the State of Arkansas against ExxonMobil on June 13, 2013, alleging violations of sections 301(a) and 311(b)(7)(A) of the Clean Water Act, 33 U.S.C. 1311(a), 1321(b)(7)(A), and State claims pursuant to the Arkansas Water and Air Pollution Control Act and the Arkansas Hazardous Waste Management Act. ARK. CODE ANN. section 8-7-201 et seq.; ARK. CODE ANN. section 8-4-101 et seq.; ARK. CODE ANN. section 8-4-101 et seq. The Complaint seeks the assessment of civil penalties and injunctive relief for the alleged CWA and State law violations.

The Consent Decree proposes to resolve this civil action by requiring ExxonMobil to perform corrective measures focused on pipeline safety and spill response preparedness, pay a federal civil penalty of $3.19 million and a state civil penalty of $1 million, fund a supplemental environmental project focused on improving water quality in Lake Conway worth $600,000, and pay state litigation costs of $280,000.

The publication of this notice opens a period for public comment on the proposed Consent Decree. Comments should be addressed to the Assistant Attorney General, Environment and Natural Resources Division, and should refer to United States v. ExxonMobil Pipeline Company, D.J. Ref. No. 90-5-1-1-10862. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ-ENRD, P.O. Box 7611, Washington, DC 20044-7611.

Please enclose a check or money order for $8.50 (25 cents per page reproduction cost) payable to the United States Treasury.

Thomas Carroll,
Assistant Section Chief, Environmental Enforcement Section, Environment and Natural Resources Division.

[FR Doc. 2015-09762 Filed 4-27-15; 8:45 am]

BILLING CODE 4410-15-P